DEPARTMENT OF HOMELAND SECURITY

Notice of the Renewal of the Critical Infrastructure Partnership Advisory Council Charter

AGENCY: Cybersecurity and Infrastructure Security Agency (CISA), DHS.

ACTION: Notice of availability; renewal of the Critical Infrastructure Partnership Advisory Council Charter.

SUMMARY: On November 29, 2022, the Secretary of the Department of Homeland Security (DHS) approved the renewal of the Critical Infrastructure Partnership Advisory Council (CIPAC) Charter. Through this notice, the Department is making the renewed CIPAC Charter publicly available and highlighting updated information and guidelines that have been included in the renewed charter.

FOR FURTHER INFORMATION CONTACT: Amy J. Campbell, 202-372-7014, amy.campbell@cisa.dhs.gov.

SUPPLEMENTARY INFORMATION: DHS established the CIPAC on March 24, 2006.¹ (71 FR 14930). The Secretary has exempted the CIPAC from the requirements of the Federal Advisory Committee Act (FACA), 5 U.S.C. chapter 10, pursuant to his authority under 6 U.S.C. 451. The CIPAC facilitates interactions between government officials and representatives of owners and/or operators for each of the critical infrastructure sectors established by Presidential Policy Directive 21 and identified in the current National Infrastructure Protection Plan. Please visit https://www.cisa.gov/critical-infrastructure-partnership-advisory-council for more information on CIPAC, activities supported by CIPAC, CIPAC Membership Roster, and Council information.

¹ The CIPAC was established consistent with 6 U.S.C. 121 and 6 U.S.C. 451(a). Pursuant to the Cybersecurity and Infrastructure Security Agency Act of 2018, the National Protection and Programs Directorate (NPPD) was re-designated as CISA and the authorities related to the CIPAC under 6 U.S.C. 121 were transferred to 6 U.S.C. 652.

On November 29, 2022, the Secretary of Homeland Security renewed the CIPAC Charter for an additional two years. The renewed CIPAC Charter supersedes the CIPAC Charter dated November 30, 2020, and is available on the CIPAC website at https://www.cisa.gov/critical-infrastructure-partnership-advisory-council. The renewed CIPAC Charter includes new and clarifying information and guidelines concerning: (1) annual training requirements related to ethics standards and information sharing; (2) activities to ensure council membership is able to accomplish mission goals and objectives of the sector; and (3) a provision related to the sharing of classified information.

Dated: April 14, 2023.
Amy J. Campbell,
Designated Federal Official, Critical Infrastructure Partnership Advisory Council, Cybersecurity and Infrastructure Security Agency, Department of Homeland Security.

[FR Doc. 2023-08302 Filed 4-19-23; 8:45 am]

BILLING CODE 9110-9P-P